DEPARTMENT OF ENERGY

Orders Granting Authority To Import and Export Natural Gas, To Import and Export Liquefied Natural Gas, and To Vacate Prior Authorization, During August 2016

| FE Docket Nos.
CLEAN ENERGY | 16-92-LNG
RIO GRANDE LNG, LLC | 15-190-LNG
TRAILSTONE NA LOGISTICS, LLC | 16-96-NG
COKINOS ENERGY CORPORATION | 16-97-NG
CENTRAL VALLE HERMOSO, S.A. DE C.V | 16-95-NG
ST. CLAIR POWER L.P | 16-94-NG
PETROCHINA INTERNATIONAL (AMERICA), INC | 16-93-NG
BIOURJA TRADING, LLC | 16-91-NG
TWIN EAGLE RESOURCE MANAGEMENT, LLC | 16-100-NG
AMERICAN LNG MARKETING LLC | 16-33-LNG
ENBRIDGE GAS NEW BRUNSWICK LIMITED PARTNERCHIP | 16-99-NG
EXELON GENERATION COMPANY, LLC | 16-104-NG
EXGEN ENERGY, S.R.L | 16-105-NG
BOISE WHITE PAPER, L.L.C | 16-106-NG
BIOURJA POWER, LLC | 16-90-NG
MERRILL LYNCH COMMODITIES, INC | 16-101-NG
MERRICL LYNCH COMMODITIES CANADA, ULC | 16-102-NG 14-198-NG

AGENCY: Office of Fossil Energy, Department of Energy.

ACTION: Notice of orders.

SUMMARY: The Office of Fossil Energy (FE) of the Department of Energy gives notice that during August 2016, it issued orders granting authority to import and export natural gas, to import and export liquefied natural gas (LNG), and to vacate prior authority. These orders are summarized in the attached appendix and may be found on the FE Web site at http://energy.gov/fe/listing-doefe-authorizationsorders-issued-2016.

They are also available for inspection and copying in the U.S. Department of Energy (FE-34), Division of Natural Gas Regulation, Office of Regulation and International Engagement, Office of Fossil Energy, Docket Room 3E-033, Forrestal Building, 1000 Independence Avenue SW., Washington, DC 20585, (202) 586-9478. The Docket Room is open between the hours of 8:00 a.m. and 4:30 p.m., Monday through Friday, except Federal holidays.

Issued in Washington, DC, on September 14, 2016.
John A. Anderson,
Director, Office of Regulation and International Engagement, Office of Oil and Natural Gas.

APPENDIX

DOE/FE Orders Granting Import/Export Authorizations
3865 | 08/22/16 | 16-02-LNG | Clean Energy | Order 3865 granting blanket authority to import/export LNG from/to Free Trade Agreement Nations by truck, rail, barge, or other waterborne vessel.
3869 | 08/17/16 | 15-190-LNG | Rio Grande LNG, LLC | Order 3869 granting long-term Multi-contract authority to export LNG by vessel from the Proposed Rio Grande LNG Terminal in Brownsville, Texas, to Free Trade Agreement Nations.
3870 | 08/09/16 | 16-96-NG | Trailstone NA Logistics, LLC | Order 3870 granting blanket authority to import/export natural gas from/to Canada/Mexico.
3871 | 08/09/16 | 16-97-NG | Cokinos Energy Corporation | Order 3871 granting blanket authority to export natural gas to Mexico.
3872 | 08/09/16 | 16-95-NG | Central Valle Hermoso, S.A. de C.V | Order 3872 granting blanket authority to import/export natural gas from/to Mexico.
3873 | 08/09/16 | 16-94-NG | St. Clair Power L.P | Order 3873 granting blanket authority to import/export natural gas from/to Canada.
3874 | 08/09/16 | 16-93-NG | Petrochina International (America), Inc | Order 3874 granting blanket authority to import/export natural gas from/to Canada/Mexico.
3875 | 08/19/16 | 16-91-NG | BioUrja Trading, LLC | Order 3875 granting blanket authority to import/export natural gas from/to Canada/Mexico.
3876 | 08/19/16 | 16-100-NG | Twin Eagle Resource Management, LLC | Order 3876 granting blanket authority to import/export natural gas from/to Canada and to export natural gas to Mexico.
3877 | 08/24/16 | 16-33-LNG | American LNG Marketing LLC | Order 3877 granting blanket authority to export LNG in ISO Containers loaded at the Hialeah facility near Medley, Florida, and exported by vessel.
3878 | 08/25/16 | 16-99-NG | Enbridge Gas New Brunswick Limited Partnership | Order 3878 granting blanket authority to import/export natural gas from/to Canada.
3879 | 08/25/16 | 16-104-NG | Exelon Generation Company, LLC | Order 3879 granting blanket authority to import/export natural gas from/to Mexico.
3880 | 08/25/16 | 16-105-NG | ExGen Energy, S.R.L | Order 3880 granting blanket authority to import/export natural gas from/to Canada.
3881 | 08/25/16 | 16-106-NG | Boise White Paper, L.L.C | Order 3881 granting blanket authority to import natural gas from Canada.
3882 | 08/30/16 | 16-90-NG | BioUrja Power, LLC | Order 3882 granting blanket authority to import/export natural gas from/to Canada/Mexico.
3883 | 08/30/16 | 16-101-NG | Merrill Lynch Commodities, Inc | Order 3883 granting blanket authority to import/export natural gas from/to Canada/Mexico.
3884 | 08/30/16 | 16-102-NG/14-198-NG | Merrill Lynch Commodities Canada, ULC | Order 3884 granting blanket authority to export natural gas to Canada and vacating prior authorization.

[FR Doc. 2016-22750 Filed 9-20-16; 8:45 am]

BILLING CODE 6450-01-P